NUCLEAR REGULATORY COMMISSION

10 CFR Part 63

[Docket No. PRM-63-1]

State of Nevada; Denial of a Petition for Rulemaking; Correction

AGENCY: Nuclear Regulatory Commission.

ACTION: Petition for rulemaking: denial; correction.

SUMMARY: On February 27, 2003 (68 FR 9023), the U.S. Nuclear Regulatory Commission (NRC) published a notice of denial of a petition for rulemaking. The petition for rulemaking, dated July 12, 2002, had been filed with the Commission by the State of Nevada, and assigned Docket No. PRM-63-1. The petitioner had requested that the NRC amend its regulations governing the disposal of high-level radioactive waste in a proposed geologic repository at Yucca Mountain, Nevada. This action corrects a sentence in the notice of denial by restoring a word that was mistakenly omitted from the published document. This action also corrects an erroneous citation and a typographical error in the body of the notice.

FOR FURTHER INFORMATION CONTACT: Timothy McCartin, Office of Nuclear Material Safety and Safeguards, U.S. Nuclear Regulatory Commission, Washington, DC 20555-0001, telephone: 301-415-7285 or Toll Free: 1-800-368-5642, e-mail: tjm3@nrc.gov; or Michael T. Lesar, Office of Administration, U.S. Nuclear Regulatory Commission, Washington, DC 20555-0001, telephone: 301-415-7163 or Toll Free: 1-800-368-5642, e-mail: MTL@nrc.gov.

SUPPLEMENTARY INFORMATION: In FR Doc. 03-4625, published on February 27, 2003 (68 FR 9023), the following corrections are made.

1. On page 9025, in the third column, the second heading is corrected to read as follows:

a. 10 CFR part 63 Is in Accord With NWPA Requirements.

2. On page 9026, in the third column, the third sentence from the bottom of the column is corrected to read as follows:

The Commission decided to reexamine its implementation of a multiple barrier approach and propose a regulation which required a system of multiple barriers, but which did not set numerical goals for the performance of individual barriers.

3. On page 9032, in the fifth line, the words “Swedish Nuclear Power Inspectorate” are replaced by the words “Swedish Nuclear Fuel and Waste Management Company”.

Dated at Rockville, Maryland, this 18th day of June, 2003.
For the Nuclear Regulatory Commission.
Annette Vietti-Cook,
Secretary of the Commission.

[FR Doc. 03-15861 Filed 6-23-03; 8:45 am]

BILLING CODE 7590-01-P